DEPARTMENT OF COMMERCE

International Trade Administration

[A-570-008]

Calcium Hypochlorite From the People's Republic of China: Final Decision To Rescind the New Shipper Review of Haixing Jingmei Chemical Products Sales Co., Ltd.

AGENCY: Enforcement and Compliance, International Trade Administration, Department of Commerce.

SUMMARY: On June 27, 2016, the Department of Commerce (the “Department”) published its Preliminary Rescission for the new shipper review (“NSR”) of the antidumping duty order on calcium hypochlorite from the People's Republic of China (“PRC”). The period of review is July 25, 2014 through June 30, 2015. As discussed below, we preliminarily determined to rescind this review because we requested but were not provided sufficient information to conduct a bona fide analysis as required by the statute, and accordingly cannot determine whether the new shipper sales of Haixing Jingmei Chemical Products Sales Co., Ltd. (“Jingmei”) are bona fide. Based on our analysis of the comments received, we make no changes to the Preliminary Rescission. Accordingly, we have determined to rescind this NSR with respect to Jingmei.

DATES: Effective November 22, 2016.

FOR FURTHER INFORMATION CONTACT: Kabir Archuletta or Amanda Brings, AD/CVD Operations, Office V, Enforcement and Compliance, International Trade Administration, U.S. Department of Commerce, 14th Street and Constitution Avenue NW., Washington, DC 20230; telephone: (202) 482-2593 or (202) 482-3927, respectively.

SUPPLEMENTARY INFORMATION:

Background

For a complete description of the events that followed the publication of the Preliminary Rescission,¹ see the Issues and Decision Memorandum.² The Issues and Decision Memorandum is a public document and is on file electronically via Enforcement and Compliance's Antidumping and Countervailing Duty Centralized Electronic Service System (“ACCESS”). ACCESS is available to registered users at http://access.trade.gov and in the Department's Central Records Unit, room B8024 of the main Department of Commerce building. In addition, a complete version of the Issues and Decision Memorandum can be accessed directly on the Internet at http://enforcement.trade.gov/frn/. The signed Issues and Decision Memorandum and the electronic version of the Issues and Decision Memorandum are identical in content.

¹ See Calcium Hypochlorite From the People's Republic of China: Preliminary Intent to Rescind the New Shipper Review of Haixing Jingmei Chemical Products Sales Co., Ltd., 81 FR 41522 (June 27, 2016) (“Preliminary Rescission”).

² See Memorandum to Paul Piquado, Assistant Secretary for Enforcement and Compliance, from Christian Marsh, Deputy Assistant Secretary for Antidumping and Countervailing Duty Operations, “Issues and Decision Memorandum for the Final Rescission of the Antidumping Duty New Shipper Review of Calcium Hypochlorite From the People's Republic of China: Haixing Jingmei Chemical Products Sales Co., Ltd.” dated concurrently with and hereby adopted by this notice (“Issues and Decision Memorandum”).

Scope of the Order

The merchandise covered by the Order is calcium hypochlorite, regardless of form (e.g., powder, tablet (compressed), crystalline (granular), or in liquid solution), whether or not blended with other materials, containing at least 10% available chlorine measured by actual weight. Calcium hypochlorite is currently classifiable under the subheading 2828.10.0000 of the Harmonized Tariff Schedule of the United States.³

³ For a complete description of the scope of the Order, see the Issues and Decision Memorandum.

Analysis of Comments Received

All issues raised in the case briefs by parties are addressed in the Issues and Decision Memorandum.⁴ A list of the issues which parties raised is attached to this notice as an Appendix.

⁴ See Issues and Decision Memorandum.

Final Rescission of Jingmei New Shipper Review

In the Preliminary Rescission, we preliminarily determined to rescind this review because we requested but were not provided sufficient information to conduct a bona fide analysis as required by the statute, and accordingly cannot determine whether the new shipper sales of Jingmei are bona fide. Based on the Department's complete analysis of all of the information and comments on the record of this review, we make no changes to the Preliminary Rescission. Accordingly, we have determined to rescind this NSR with respect to Jingmei. For a complete discussion, see the Preliminary Bona Fide Memo ⁵ and the Issues and Decision Memorandum.

⁵ See Memorandum to James Doyle, Director, Office V, Antidumping and Countervailing Duty Operations, through Catherine Bertrand, Program Manager, Office V, Antidumping and Countervailing Duty Operations, from Kabir Archuletta, Senior International Trade Analyst, “Bona Fide Nature of the Sales in the Antidumping Duty New Shipper Review of Calcium Hypochlorite From the People's Republic of China: Haixing Jingmei Chemical Products Sales Co., Ltd.,” dated June 20, 2016 (“Preliminary Bona Fide Memo”).

Assessment

As the Department is rescinding this NSR, we have not calculated a company-specific dumping margin for Jingmei.

Cash Deposit Requirements

Effective upon publication of this notice of the final rescission of the NSR of Jingmei, the Department will instruct U.S. Customs and Border Protection to discontinue the option of posting a bond or security in lieu of a cash deposit for entries of subject merchandise from Jingmei. Because we did not calculate a dumping margin for Jingmei, Jingmei continues to be part of the PRC-wide entity. The cash deposit rate for the PRC-wide entity is 200.90 percent.⁶ The current cash deposit requirements shall remain in effect until further notice.

⁶ See Calcium Hypochlorite From the People's Republic of China: Antidumping Duty Order, 80 FR 5085 (January 30, 2015).

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

The Department is issuing and publishing these results in accordance with sections 751(a)(2)(B) and 777(i) of the Tariff Act of 1930, as amended, and 19 CFR 351.214 and 19 CFR 351.221(b)(5).

Dated: November 14, 2016.
Paul Piquado,
Assistant Secretary for Enforcement and Compliance.

Appendix—List of Topics Discussed in the Issues and Decision Memorandum

I. Summary

II. Background

III. Scope of the Order

IV. Discussion of the Issues

Comment 1: Whether the Department Should Have Conducted a Bona Fide Analysis

Comment 2: Whether the Department has “Penalized” Jingmei for Its Unaffiliated Customers' Partial Cooperation

V. Recommendation

[FR Doc. 2016-28103 Filed 11-21-16; 8:45 am]

BILLING CODE 3510-DS-P